DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 16, 2017.
Roy E. Wright,
Deputy Associate Administrator for Insurance and Mitigation, Department of Homeland Security, Federal Emergency Management Agency.

State and county | Location and case No. | Chief executive officer of community | Community map repository | Effective date of modification | Community No.
Arkansas:
Drew (FEMA Docket No.: B-1660) | City of Monticello (16-06-1501P) | The Honorable Zackery Tucker, Mayor, City of Monticello, P.O. Box 505, Monticello, AR 71655 | City Hall, 203 West Gaines Street, Monticello, AR 71655 | Jan. 12, 2017 | 050074
Drew (FEMA Docket No.: B-1660) | Unincorporated areas of Drew County (16-04-1501P) | The Honorable Robert Akin, Drew County Judge, 210 South Main Street, Monticello, AR 71655 | Drew County Courthouse, 210 South Main Street, Monticello, AR 71655 | Jan. 12, 2017 | 050430
Colorado: Larimer (FEMA Docket No.: B-1660) | City of Fort Collins (16-08-0420P) | The Honorable Wade Troxell, Mayor, City of Fort Collins, P.O. Box 580, Fort Collins, CO 80522 | Utilities Department, 700 Wood Street, Fort Collins, CO 80521 | Jan. 5, 2017 | 080102
Connecticut: Fairfield (FEMA Docket No.: B-1660) | City of Stamford (16-01-1994P) | The Honorable David Martin, Mayor, City of Stamford, 888 Washington Boulevard, Stamford, CT 06904 | City Hall, 888 Washington Boulevard, Stamford, CT 06904 | Jan. 11, 2017 | 090015
Florida:
Collier (FEMA Docket No.: B-1660) | City of Marco Island (16-04-6989P) | The Honorable Bob Brown, Chairman, City of Marco Island Council, 50 Bald Eagle Drive, Marco Island, FL 34145 | Building Department, 50 Bald Eagle Drive, Marco Island, FL 34145 | Jan. 19, 2017 | 120426
Collier (FEMA Docket No.: B-1656) | City of Naples (16-04-6553P) | The Honorable Bill Barnett, Mayor, City of Naples, 735 8th Street South, Naples, FL 34102 | Building Department, 295 Riverside Circle, Naples, FL 34102 | Jan, 4, 2017 | 125130
Collier (FEMA Docket No.: B-1660) | City of Naples (16-04-6987P) | The Honorable Bill Barnett, Mayor, City of Naples, 735 8th Street South, Naples, FL 34102 | Building Department, 295 Riverside Circle, Naples, FL 34102 | Jan. 19, 2017 | 125130
Duval (FEMA Docket No.: B-1660) | City of Jacksonville (16-04-3215P) | The Honorable Lenny Curry, Mayor, City of Jacksonville, 117 West Duval Street, Suite 400, Jacksonville, FL 32202 | Development Services Division, 214 North Hogan Street, Suite 2100, Jacksonville, FL 32202 | Dec. 30, 2016 | 120077
Duval (FEMA Docket No.: B-1660) | City of Jacksonville (16-04-6150P) | The Honorable Lenny Curry, Mayor, City of Jacksonville, 117 West Duval Street, Suite 400, Jacksonville, FL 32202 | Development Services Division, 214 North Hogan Street, Suite 2100, Jacksonville, FL 32202 | Jan. 11, 2017 | 120077
Lake (FEMA Docket No.: B-1656) | City of Fruitland Park (16-04-6296X) | The Honorable Chris Bell, Mayor, City of Fruitland Park, 506 West Berckman Street, Fruitland Park, FL 34731 | Building Department, 506 West Berckman Street, Fruitland Park, FL 34731 | Dec. 28, 2016 | 120387
Lee (FEMA Docket No.: B-1660) | Unincorporated areas of Lee County (16-04-7007P) | The Honorable Frank Mann, Chairman, Lee County Board of Commissioners, P.O. Box 398, Fort Myers, FL 33902 | Lee County Building Department, 1500 Monroe Street, Fort Myers, FL 33901 | Jan. 23, 2017 | 125124
Manatee (FEMA Docket No.: B-1656) | Unincorporated areas of Manatee County (16-04-5342P) | The Honorable Vanessa Baugh, Chair, Manatee County Board of Commissioners, 1112 Manatee Avenue West, Bradenton, FL 34205 | Manatee County Building and Development Services Division, 1112 Manatee Avenue West, Bradenton, FL 34205 | Dec. 27, 2016 | 120153
Monroe (FEMA Docket No.: B-1660) | City of Key West (16-04-6755P) | The Honorable Craig Cates, Mayor, City of Key West, P.O. Box 1409, Key West, FL 33041 | Building Department, 3140 Flagler Avenue, Key West, FL 33040 | Jan. 19, 2017 | 120168
Monroe (FEMA Docket No.: B-1660) | Unincorporated areas of Monroe County (16-04-7359P) | The Honorable Heather Carruthers, Mayor, Monroe County Board of Commissioners, 500 Whitehead Street, Suite 102, Key West, FL 33040 | Monroe County Building Department, 2798 Overseas Highway, Marathon, FL 33050 | Jan. 20, 2017 | 125129
Orange (FEMA Docket No.: B-1660) | City of Orlando (16-04-5876P) | The Honorable Buddy W. Dyer, Mayor, City of Orlando, P.O. Box 4990, Orlando, FL 32802 | Public Works Department, 400 South Orange Avenue, 8th Floor, Orlando, FL 32801 | Jan. 20, 2017 | 120186
Orange (FEMA Docket No.: B-1660) | Unincorporated areas of Orange County (16-04-2773P) | The Honorable Teresa Jacobs, Mayor, Orange County, 201 South Rosalind Avenue, 5th Floor, Orlando, FL 32801 | Orange County Stormwater Management Department, 4200 South John Young Parkway, Orlando, FL 32839 | Jan. 23, 2017 | 120179
Osceola (FEMA Docket No.: B-1660) | Unincorporated areas of Osceola County (16-04-2860P) | The Honorable Viviana Janer, Chair, Osceola County Board of Commissioners, 1 Courthouse Square, Suite 1400, Kissimmee, FL 34741 | Osceola County Community Development Department, 1 Courthouse Square, Suite 1100, Kissimmee, FL 34741 | Jan. 20, 2017 | 120189
Louisiana: St. Tammany (FEMA Docket No.: B-1660) | City of Mandeville (16-06-1792P) | The Honorable Donald J. Villere, Mayor, City of Mandeville, 3101 East Causeway Approach, Mandeville, LA 70448 | Planning Department, 3101 East Causeway Approach, Mandeville, LA 70448 | Jan. 13, 2017 | 220202
Massachusetts:
Barnstable (FEMA Docket No.: B-1665) | Town of Sandwich (16-01-1204P) | The Honorable Susan James, Chair, Town of Sandwich Board of Selectmen, 130 Main Street, Sandwich, MA 02563 | Building Department, 16 Jan Sebastian Drive, Sandwich, MA 02563 | Jan. 9, 2017 | 250012
Essex (FEMA Docket No.: B-1660) | Town of Manchester-by-the-Sea (16-01-1155P) | The Honorable Eli G. Boling, Chairman, Town of Manchester-by-the-Sea, Board of Selectmen, 10 Central Street, Manchester-by-the-Sea, MA 01944 | Town Hall, 10 Central Street, Manchester-by-the-Sea, MA 01944 | Jan. 2, 2017 | 250090
Suffolk (FEMA Docket No.: B-1660) | City of Boston (16-01-1699P) | The Honorable Martin J. Walsh, Mayor, City of Boston, 1 City Hall Square, Suite 500, Boston, MA 02201 | Environment Department, 1 City Hall Square, Suite 709, Boston, MA 02201 | Jan. 6, 2017 | 250286
Mississippi:
Madison (FEMA Docket No.: B-1660) | City of Madison (16-04-6373P) | The Honorable Mary Hawkins Butler, Mayor, City of Madison, P.O. Box 40 Madison, MS 39110 | Community Development Department, 1004 Madison Avenue, Madison, MS 39110 | Jan. 20, 2017 | 280229
Madison (FEMA Docket No.: B-1660) | Pearl River Valley Water Supply District (16-04-6373P) | Mr. Jack Winstead, President, Pearl River Valley Water Supply District Board of Directors, 115 Madison Landing Circle, Ridgeland, MS 39158 | Building Department, 1864 Spillway Road, Brandon, MS 39047 | Jan. 20, 2017 | 280338
Madison (FEMA Docket No.: B-1660) | Unincorporated areas of Madison County (16-04-6373P) | The Honorable Trey Baxter, Chairman, Madison County Board of Supervisors, P.O. Box 608, Canton, MS 39046 | Madison County Planning and Zoning Department, 125 West North Street, Canton, MS 39046 | Jan. 20, 2017 | 280228
Montana: Mineral (FEMA Docket No.: B-1656) | Unincorporated areas of Mineral County (16-08-0230P) | The Honorable Roman Zylawy, Chairman, Mineral County Board of Commissioners, 300 River Street, Superior, MT 59872 | Mineral County Government Office, 300 River Street, Superior, MT 59872 | Dec. 29, 2016 | 300159
New Hampshire:
Hillsborough (FEMA Docket No.: B-1660) | Town of Amherst (16-01-1614P) | Mr. James M. O'Mara, Jr., Town Administrator, Town of Amherst, P.O. Box 960, Amherst, NH 03031 | Planning Department, 2 Main Street, Amherst, NH 03031 | Jan. 13, 2017 | 330081
Hillsborough (FEMA Docket No.: B-1660) | Town of Hudson (16-01-1111P) | The Honorable Rick Maddox, Chairman, Town of Hudson Board of Selectmen, 12 School Street, Hudson, NH 03051 | Town Hall, 12 School Street, Hudson, NH 03051 | Jan. 19, 2017 | 330092
New Mexico: Dona Ana (FEMA Docket No.: B-1665) | Unincorporated areas of Dona Ana County (16-06-3875P) | The Honorable Wayne Hancock, Chairman, Dona Ana County Board of Commissioners, 845 North Motel Boulevard, Las Cruces, NM 88007 | Dona Ana County, Flood Commission Department, 845 North Motel Boulevard, Las Cruces, NM 88007 | Jan. 13, 2017 | 350012
North Carolina: Mecklenburg (FEMA Docket No.: B-1656) | City of Charlotte (15-04-3179P) | The Honorable Jennifer Roberts, Mayor, City of Charlotte, 600 East 4th Street, 15th Floor, Charlotte, NC 28202 | Charlotte-Mecklenburg Stormwater Services Division, 2145 Suttle Avenue, Charlotte, NC 28208 | Jan 2. 2017 | 370159
Oklahoma:
Craig (FEMA Docket No.: B-1649) | City of Vinita (16-06-1321P) | The Honorable Ronnie Starks, Mayor, City of Vinita, 104 East Illinois Avenue, Vinita, OK 74301 | City Hall, 104 East Illinois Avenue, Vinita, OK 74301 | Jan. 6, 2017 | 400050
Craig (FEMA Docket No.: B-1649) | Unincorporated areas of Craig County (16-06-1321P) | The Honorable H.M. “Bud” Wyatt, Craig County Associate District Judge, 210 West Delaware Avenue, Vinita, OK 74301 | Craig County Courthouse, 210 West Delaware Avenue, Vinita, OK 74301 | Jan. 6, 2017 | 400540
Oklahoma (FEMA Docket No.: B-1660) | City of Oklahoma City (16-06-1439P) | The Honorable Mick Cornett, Mayor, City of Oklahoma City, 200 North Walker Avenue, Oklahoma City, OK 73102 | Public Works Department, 420 West Main Street, Oklahoma City, OK 73102 | Jan. 23, 2017 | 405378
Pennsylvania:
Bucks (FEMA Docket No.: B-1660) | Borough of New Hope (16-03-1928P) | Mr. John Burke, Manager, Borough of New Hope, 123 New Street, New Hope, PA 18938 | Borough Hall, 123 New Street, New Hope, PA 18938 | Jan. 12, 2017 | 420195
Chester (FEMA Docket No.: B-1656) | Township of East Whiteland (16-03-0517P) | Mr. John Nagel, Manager, Township of East Whiteland, 209 Conestoga Road, Frazer, PA 19355 | Municipal Building, 209 Conestoga Road, Frazer, PA 19355 | Dec. 28, 2016 | 420279
York (FEMA Docket No.: B-1660) | Township of Lower Chanceford (16-03-2040P) | The Honorable David Glenn, Chairman, Township of Lower Chanceford, Board of Supervisors, 4120 Delta Road, Airville, PA 17302 | Lower Chanceford Township Hall, 4120 Delta Road, Airville, PA 17302 | Jan. 23, 2017 | 420930
York (FEMA Docket No.: B-1660) | Township of Peach Bottom (16-03-2040P) | The Honorable Janet L. Wiley, Chair, Township of Peach Bottom Board of Supervisors, 6880 Delta Road, Delta, PA 17314 | Peach Bottom Municipal Office Building, 6880 Delta Road, Delta, PA 17314 | Jan. 23, 2017 | 422229
South Carolina: Charleston (FEMA Docket No.: B-1656) | Town of Mount Pleasant (16-04-6229P) | The Honorable Linda Page, Mayor, Town of Mount Pleasant, 100 Ann Edwards Lane, Mount Pleasant, SC 29464 | Planning and Development Department, 100 Ann Edwards Lane, Mount Pleasant, SC 29464 | Dec. 29, 2016 | 455417
Texas:
Bexar (FEMA Docket No.: B-1656) | City of San Antonio (16-06-1242P) | The Honorable Ivy R. Taylor, Mayor, City of San Antonio, P.O. Box 839966, San Antonio, TX 78283 | Transportation and Capital Improvements Department, Stormwater Division, 1901 South Alamo Street, 2nd Floor, San Antonio, TX 78204 | Dec. 30, 2016 | 480045
Bexar (FEMA Docket No.: B-1660) | City of San Antonio (16-06-1641P) | The Honorable Ivy R. Taylor, Mayor, City of San Antonio, P.O. Box 839966, San Antonio, TX 78283 | Transportation and Capital Improvements Department, Stormwater Division, 1901 South Alamo Street, 2nd Floor, San Antonio, TX 78204 | Jan. 11, 2017 | 480045
Bexar (FEMA Docket No.: B-1668) | Unincorporated areas of Bexar County (16-06-2426P) | The Honorable Nelson W. Wolff, Bexar County Judge, 101 West Nueva Street, 10th Floor, San Antonio, TX 78205 | Bexar County Public Works Department, 233 North Pecos-La Trinidad Street, Suite 420, San Antonio, TX 78207 | Dec. 27, 2016 | 480035
Bexar (FEMA Docket No.: B-1660) | Unincorporated areas of Bexar County (16-06-2962P) | The Honorable Nelson W. Wolff, Bexar County Judge, 101 West Nueva Street, 10th Floor, San Antonio, TX 78205 | Bexar County Public Works Department, 233 North Pecos-La Trinidad Street, Suite 420, San Antonio, TX 78207 | Jan. 11, 2017 | 480035
Collin (FEMA Docket No.: B-1660) | City of McKinney (16-06-1250P) | The Honorable Brian Loughmiller, Mayor, City of McKinney, P.O. Box 517, McKinney, TX 75070 | Engineering Department, 221 North Tennessee Street, McKinney, TX 75069 | Jan. 9, 2017 | 480135
Collin (FEMA Docket No.: B-1660) | City of McKinney (16-06-1435P) | The Honorable Brian Loughmiller, Mayor, City of McKinney, P.O. Box 517, McKinney, TX 75070 | Engineering Department, 221 North Tennessee Street, McKinney, TX 75069 | Jan. 2, 2017 | 480135
Collin (FEMA Docket No.: B-1660) | City of McKinney (16-06-2050P) | The Honorable Brian Loughmiller, Mayor, City of McKinney, P.O. Box 517, McKinney, TX 75070 | Engineering Department, 221 North Tennessee Street, McKinney, TX 75069 | Jan. 9, 2017 | 480135
Collin (FEMA Docket No.: B-1660) | Unincorporated areas of Collin County (16-06-1435P) | The Honorable Keith Self, Collin County Judge, 2300 Bloomdale Road, Suite 4192, McKinney, TX 75071 | Collin County Engineering Department, 4690 Community Avenue, Suite 200, McKinney, TX 75071 | Jan. 2, 2017 | 480130
Denton (FEMA Docket No.: B-1656) | City of Corinth (16-06-2195P) | The Honorable Bill Heidemann, Mayor, City of Corinth, 2027 Vintage Circle, Corinth, TX 76210 | Planning and Development Department, 3300 Corinth Parkway, Corinth, TX 76208 | Jan 5, 2017 | 481143
Denton (FEMA Docket No.: B-1656) | City of Denton (16-06-2195P) | The Honorable Chris A. Watts, Mayor, City of Denton, 215 East McKinney Street, Denton, TX 76201 | Engineering Department, 901-A Texas Street, Denton, TX 76509 | Jan 5, 2017 | 480194
Harris (FEMA Docket No.: B-1665) | City of Houston (16-06-0816P) | The Honorable Sylvester Turner, Mayor, City of Houston, P.O. Box 1562, Houston, TX 77251 | Floodplain Management Department, 1002 Washington Avenue, 3rd Floor, Houston, TX 77002 | Jan. 20, 2017 | 480296
Harris (FEMA Docket No.: B-1665) | Unincorporated areas of Harris County (16-06-0816P) | The Honorable Edward M. Emmett, Harris County Judge, 1001 Preston Street, Suite 911, Houston, TX 77002 | Harris County Permit Office, 10555 Northwest Freeway, Suite 120, Houston, TX 77092 | Jan. 20, 2017 | 480287
Montgomery (FEMA Docket No.: B-1665) | City of Conroe (16-06-1603P) | The Honorable Toby Powell, Mayor, City of Conroe, P.O. Box 3066, Conroe, TX 77305 | Department of Public Works, 300 West Davis Street, Conroe, TX 77301 | Jan. 11, 2017 | 480484
Montgomery (FEMA Docket No.: B-1660) | City of Conroe (16-06-2103P) | The Honorable Toby Powell, Mayor, City of Conroe, P.O. Box 3066, Conroe, TX 77305 | Department of Public Works, 300 West Davis Street, Conroe, TX 77301 | Jan. 19, 2017 | 480484
Tarrant (FEMA Docket No.: B-1660) | City of Fort Worth (16-06-1438P) | The Honorable Betsy Price, Mayor, City of Fort Worth, 1000 Throckmorton Street, Fort Worth, TX 76102 | Transportation and Public Works Department, 1000 Throckmorton Street, Fort Worth, TX 76102 | Jan. 19, 2017 | 480596
Utah:
Iron (FEMA Docket No.: B-1665) | City of Cedar City (16-08-0339P) | The Honorable Maile Wilson, Mayor, City of Cedar City, 10 North Main Street, Cedar City, UT 84720 | City Hall, 10 North Main Street, Cedar City, UT 84720 | Jan. 5, 2017 | 490074
Weber (FEMA Docket No.: B-1656) | City of Ogden (16-08-0099P) | The Honorable Michael P. Caldwell, Mayor, City of Ogden, 2549 Washington Boulevard, Suite 910, Ogden, UT 84401 | City Hall, 2549 Washington Boulevard, Ogden, UT 84401 | Dec. 27, 2016 | 37 490189
Weber (FEMA Docket No.: B-1656) | Unincorporated areas of Weber County (16-08-0099P) | The Honorable Kerry W. Gibson, Chairman, Weber County Commission, 2380 Washington Boulevard, Suite 360, Ogden, UT 84401 | Weber County Government Building, 2380 Washington Boulevard, Ogden, UT 84401 | Dec. 27, 2016 | 490187
Virginia:
Fairfax (FEMA Docket No.: B-1656) | Unincorporated areas of Fairfax County (16-03-0196P) | Mr. Edward L. Long, Jr., Fairfax County Executive, 12000 Government Center Parkway, Fairfax, VA 22035 | Fairfax County Department of Public Works and Environmental Services, 12000 Government Center Parkway, Suite 449, Fairfax, VA 22035 | Jan 2, 2017 | 515525
Independent City (FEMA Docket No.: B-1660) | City of Hampton (16-03-1592P) | The Honorable Donnie R. Tuck, Mayor, City of Hampton, 22 Lincoln Street, Hampton, VA 23669 | Public Works Division, 22 Lincoln Street, Hampton, VA 23669 | Jan. 17, 2017 | 515527
Prince William (FEMA Docket No.: B-1656) | Unincorporated areas of Prince William County (16-03-0196P) | Mr. Christopher E. Martino, Acting Prince William County Executive, 1 County Complex Court, Prince William, VA 22192 | Prince William County Department of Public Works, 5 County Complex Court, Prince William, VA 22192 | Jan 2, 2017 | 510119

[FR Doc. 2017-04835 Filed 3-10-17; 8:45 am]

BILLING CODE 9110-12-P